DEPARTMENT OF HEALTH AND HUMAN SERVICES

National Institutes of Health

National Institute of Arthritis and Musculoskeletal and Skin Diseases; Amended Notice of Meeting

Notice is hereby given of a change in the meeting of the Arthritis and Musculoskeltal and Skin Diseases Special Grants Review Committee, February 6, 2004, 8 a.m. to February 6, 2004, 5 p.m., Holiday Inn Chevy Chase, 5520 Wisconsin Avenue, Chevy Chase, MD 20815 which was published in the Federal Register on January 14, 2004, 69 FR 2148.

The meeting location has been changed to the Marriott Bethesda Suites, 6711 Democracy Blvd., Bethesda, Maryland 20817. The date and time have not changed. The meeting is closed to the public.

Dated: January 21, 2004.
LaVerne Y. Stringfield,
Director, Office of Federal Advisory Committee Policy.

[FR Doc. 04-1721 Filed 1-26-04; 8:45 am]

BILLING CODE 4140-01-M